DEPARTMENT OF COMMERCE

National Oceanic and Atmospheric Administration

Agency Information Collection Activities; Submission to the Office of Management and Budget (OMB) for Review and Approval; Comment Request; Wage Mariner Hiring Portal

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 19, 2022 (87 FR 77553) during a 60-day comment period. This notice allows for an additional 30 days for public comments.

Agency: National Oceanic & Atmospheric Administration, Commerce.

Title: Wage Mariner Hiring Portal.

OMB Control Number: 0648-0790.

Form Number(s): None.

Type of Request: Regular submission [extension of a current information collection].

Number of Respondents: 1,000.

Average Hours per Response: 1 hour.

Total Annual Burden Hours: 1,000 hours.

Needs and Uses: This is a request for extension of an existing information collection. The Wage Mariner Hiring Portal (WMHP) is an internet-based system (website) that is designed to allow an applicant to apply for a “wage mariner” position within the National Oceanic and Atmospheric Administration (NOAA) fleet of maritime vessels. The WMHP system collects basic user information, wage mariner licensing, certifications, and relevant current and or past work history. The Department of Commerce (DOC), through NOAA, Office of Marine and Aviation Operations (OMAO) has special hiring authority under Code of Federal Regulations (CFR), title 5, chapter 1, subchapter A, part 3, § 3.2 and under the DOC Department Administrative Order (DAO) 202-302 section 2, subsection .02a. specific to the hiring of Federal wage mariner employees. The regulations allow OMAO to hire wage mariners into excepted service positions within the NOAA fleet of ocean going vessels in order to maintain adequate operations, maintenance, and safe staffing of the maritime ships.

No physical forms are used in this collection, it is all online. Applicants fill out basic personal, licensure, and work history information into a profile resume. Once their basic profile is complete, applicants can submit this resume to available wage mariner positions as shown on the WMHP website. The application information received is used to determine if the applicant meets the basic job qualification. The applicant's information is then passed on to the hiring official or it is placed in a pool of prospective candidates for future openings. Application information includes: first and last name, contact number and email address, wage mariner licenses and certifications, relevant work history.

Affected Public: Individuals or households.

Frequency: On occasion.

Respondent's Obligation: Required to obtain or retain benefits.

Legal Authority: Code of Federal Regulations (CFR), title 5, chapter 1, subchapter A, part 3, § 3.2.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0790.

Sheleen Dumas,
Department PRA Clearance Officer, Office of the Chief Information Officer, Commerce Department.

[FR Doc. 2023-05111 Filed 3-10-23; 8:45 am]

BILLING CODE 3510-12-P